DEPARTMENT OF TRANSPORTATION

Federal Aviation Administration

14 CFR Part 95

[Docket No. 31309; Amdt. No. 552]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective date: 0901 UTC, May 21, 2020.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on April 17, 2020.
Robert C. Carty,
Executive Deputy Director, Flight Standards Service.

Adoption of the Amendment

Accordingly, pursuant to the authority delegated to me by the Administrator, part 95 of the Federal Aviation Regulations (14 CFR part 95) is amended as follows effective at 0901 UTC, May 21, 2020.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 552 Effective Date May 21, 2020]
From | To | MEA | MAA
§ 95.3000 Low Altitude RNAV Routes
§ 95.3285 RNAV Route T285 Is Amended To Read In Part
LKOTA, SD WP | LESNR, SD WP | 4300 | 17500
LESNR, SD WP | HURON, SD VORTAC | 4000 | 17500
§ 95.3356 RNAV Route T356 Is Added To Read
* WOOLY, MD FIX | DROSA, MD WP | 6000 | 17500
* 6000-MCA | WOOLY, MD FIX, SE BND
* 3100-MOCA
DROSA, MD WP | OBWON, MD WP | 6000 | 17500
* 2600-MOCA
OBWON, MD WP | SWANN, MD FIX | 6000 | 17500
* 1800-MOCA
SWANN, MD FIX | GATBY, MD FIX | 6000 | 17500
* 6000-MCA | GATBY, MD FIX, SW BND
* 1500-MOCA
GATBY, MD FIX | KERNO, MD FIX | 4000 | 17500
* 1400-MOCA
KERNO, MD FIX | ODESA, MD FIX | 4000 | 17500
* 1500-MOCA
ODESA, MD FIX | ELUDE, MD FIX | 4000 | 17500
* 4000-MCA | ELUDE, MD FIX, S BND
* 1800-MOCA
§ 95.3358 RNAV Route T358 Is Added To Read
MARTINSBURG, WV VORTAC | CPTAL, MD WP | 5000 | 17500
* 3800-MOCA
CPTAL, MD WP | HOGZZ, MD WP | 5000 | 17500
* 4300-MOCA
HOGZZ, MD WP | MOYRR, MD WP | 5000 | 17500
* 3200-MOCA
MOYRR, MD WP | DANII, MD WP | 6000 | 17500
* 3100-MOCA
DANII, MD WP | OBWON, MD WP | 6000 | 17500
* 2600-MOCA
OBWON, MD WP | SWANN, MD FIX | 6000 | 17500
* 1800-MOCA
SWANN, MD FIX | GOLDA, MD FIX | 1800 | 17500
* 1500-MOCA
GOLDA, MD FIX | BROSS, MD FIX | 1800 | 17500
* 1500-MOCA
BROSS, MD FIX | SMYRNA, DE VORTAC | 1800 | 17500
* 1500-MOCA
SMYRNA, DE VORTAC | LEEAH, NJ FIX | 1800 | 17500
* 1400-MOCA
LEEAH, NJ FIX | AVALO, NJ FIX | 1800 | 17500
* 1600-MOCA
§ 95.4000 High Altitude RNAV Routes
§ 95.4056 RNAV Route Q56 Is Amended To Read In Part
CATLN, AL FIX | KBLER, GA WP | #* 18000 | 45000
* 18000-GNSS MEA
* DME/DME/IRU MEA
KBLER, GA WP | KELLN, SC WP | #* 18000 | 45000
* 18000-GNSS MEA
* DME/DME/IRU MEA
§ 95.4065 RNAV Route Q65 Is Amended By Adding
MGNTY, FL WP | DOFFY, FL WP | #* 18000 | 45000
* 18000-GNSS MEA
* DME/DME/IRU MEA
Is Amended To Delete
KPASA, FL WP | DOFFY, FL WP | * 18000 | 45000
* GNSS REQUIRED
§ 95.4075 RNAV Route Q75 Is Amended By Adding
GREENSBORO, NC VORTAC | BROSK, NC WP | #* 18000 | 45000
* 18000-GNSS MEA
* DME/DME/IRU MEA
BROSK, NC WP | DRAIK, VA FIX | #* 18000 | 45000
* 18000-GNSS MEA
* DME/DME/IRU MEA
DRAIK, VA FIX | GORDONSVILLE, VA VORTAC | #* 18000 | 45000
* 18000-GNSS MEA
* DME/DME/IRU MEA
GORDONSVILLE, VA VORTAC | HAMMZ, VA WP | #* 20000 | 45000
* 20000-GNSS MEA
* DME/DME/IRU MEA
HAMMZ, VA WP | TOOBN, MD WP | #* 20000 | 45000
* 20000-GNSS MEA
* DME/DME/IRU MEA
TOOBN, MD WP | MURPH, MD FIX | #* 20000 | 45000
* 20000-GNSS MEA
* DME/DME/IRU MEA
MURPH, MD FIX | SACRI, MD FIX | #* 18000 | 45000
* 18000-GNSS MEA
* DME/DME/IRU MEA
SACRI, MD FIX | STOEN, PA FIX | #* 18000 | 45000
* 18000-GNSS MEA
* DME/DME/IRU MEA
STOEN, PA FIX | MODENA, PA VORTAC | #* 18000 | 45000
* 18000-GNSS MEA
* DME/DME/IRU MEA
MODENA, PA VORTAC | COPES, PA FIX | #* 18000 | 45000
* 18000-GNSS MEA
* DME/DME/IRU MEA
COPES, PA FIX | BIGGY, NJ FIX | #* 18000 | 45000
* 18000-GNSS MEA
* DME/DME/IRU MEA
BIGGY, NJ FIX | SOLBERG, NJ VOR/DME | #* 18000 | 45000
* 18000-GNSS MEA
* DME/DME/IRU MEA
SOLBERG, NJ VOR/DME | JERSY, NJ FIX | #* 18000 | 45000
* 18000-GNSS MEA
* DME/DME/IRU MEA
JERSY, NJ FIX | DUEYS, NY FIX | #* 18000 | 45000
* 18000-GNSS MEA
* DME/DME/IRU MEA
DUEYS, NY FIX | BIZEX, NY WP | #* 18000 | 45000
* 18000-GNSS MEA
* DME/DME/IRU MEA
BIZEX, NY WP | GREKI, CT FIX | #* 18000 | 45000
* 18000-GNSS MEA
* DME/DME/IRU MEA
GREKI, CT FIX | NELIE, CT FIX | #* 18000 | 45000
* 18000-GNSS MEA
* DME/DME/IRU MEA
NELIE, CT FIX | SWALO, MA FIX | #* 18000 | 45000
* 18000-GNSS MEA
* DME/DME/IRU MEA
SWALO, MA FIX | BOSTON, MA VOR/DME | #* 18000 | 45000
* 18000-GNSS MEA
* DME/DME/IRU MEA
BOSTON, MA VOR/DME | COPLY, MA WP | #* 18000 | 45000
* 18000-GNSS MEA
* DME/DME/IRU MEA
§ 95.4077 RNAV Route Q77 Is Amended To Read In Part
WAKKO, FL WP | MJAMS, FL WP | #* 18000 | 45000
* 18000-GNSS MEA
* DME/DME/IRU MEA
§ 95.4079 RNAV Route Q79 Is Amended To Read In Part
DOFFY, FL WP | EVANZ, FL WP | #* 18000 | 45000
* 18000-GNSS MEA
* DME/DME/IRU MEA
EVANZ, FL WP | IISLY, GA WP | #* 18000 | 45000
* 18000-GNSS MEA
* DME/DME/IRU MEA
IISLY, GA WP | YUESS, GA WP | #* 18000 | 45000
* 18000-GNSS MEA
* DME/DME/IRU MEA
§ 95.4081 RNAV Route Q81 Is Amended To Read In Part
FARLU, FL WP | MGNTY, FL WP | #* 18000 | 45000
* 18000-GNSS MEA
* DME/DME/IRU MEA
MGNTY, FL WP | ENDEW, FL WP | #* 18000 | 45000
* 18000-GNSS MEA
* DME/DME/IRU MEA
NICKI, FL WP | SNAPY, FL WP | #* 18000 | 45000
* 18000-GNSS MEA
* DME/DME/IRU MEA
SNAPY, FL WP | BULZI, FL WP | #* 18000 | 45000
* 18000-GNSS MEA
* DME/DME/IRU MEA
BULZI, FL WP | IPOKE, GA WP | #* 18000 | 45000
* 18000-GNSS MEA
* DME/DME/IRU MEA
IPOKE, GA WP | HONID, GA WP | #* 18000 | 45000
* 18000-GNSS MEA
* DME/DME/IRU MEA
§ 95.4085 RNAV Route Q85 Is Amended To Read In Part
LPERD, FL WP | BEEGE, GA WP | #* 18000 | 45000
* 18000-GNSS MEA
* DME/DME/IRU MEA
BEEGE, GA WP | GIPPL, GA WP | #* 18000 | 45000
* 18000-GNSS MEA
* DME/DME/IRU MEA
§ 95.4093 RNAV Route Q93 Is Amended To Read In Part
GIPPL, GA WP | SUSYQ, GA WP | #* 18000 | 45000
* 18000-GNSS MEA
* DME/DME/IRU MEA
SUSYQ, GA WP | ISUZO, GA WP | #* 18000 | 45000
* 18000-GNSS MEA
* DME/DME/IRU MEA
ISUZO, GA WP | GURGE, SC WP | #* 18000 | 45000
* 18000-GNSS MEA
* DME/DME/IRU MEA
GURGE, SC WP | FISHO, SC WP | #* 18000 | 45000
* 18000-GNSS MEA
* DME/DME/IRU MEA
§ 95.4099 RNAV Route Q99 Is Amended By Adding
KPASA, FL WP | DOFFY, FL WP | #* 18000 | 45000
* 18000-GNSS MEA
* DME/DME/IRU MEA
§ 95.4109 RNAV Route Q109 Is Amended By Adding
KNOST, OG WP | DEANR, FL WP | #* 18000 | 45000
* 18000-GNSS MEA
* DME/DME/IRU MEA
DEANR, FL WP | BRUTS, FL WP | #* 18000 | 45000
* 18000-GNSS MEA
* DME/DME/IRU MEA
BRUTS, FL WP | EVANZ, FL WP | #* 18000 | 45000
* 18000-GNSS MEA
* DME/DME/IRU MEA
EVANZ, FL WP | CAMJO, FL WP | #* 18000 | 45000
* 18000-GNSS MEA
* DME/DME/IRU MEA
Is Amended To Delete
DOFFY, FL WP | CAMJO, FL WP | * 18000 | 45000
* GNSS REQUIRED
§ 95.4116 RNAV Route Q116 Is Amended To Read In Part
MICES, FL WP | DEANR, FL WP | #* 18000 | 45000
* 18000-GNSS MEA
* DME/DME/IRU MEA
DEANR, FL WP | PATOY, FL WP | #* 18000 | 45000
* 18000-GNSS MEA
* DME/DME/IRU MEA
§ 95.4118 RNAV Route Q118 Is Amended To Read In Part
FEMID, FL WP | PEAKY, FL WP | #* 18000 | 45000
* 18000-GNSS MEA
* DME/DME/IRU MEA
§ 95.4475 RNAV Route Q475 Is Added To Read
COPLY, MA WP | SCUPP, OA FIX | #* 18000 | 45000
* 18000-GNSS MEA
* DME/DME/IRU MEA
SCUPP, OA FIX | CANAL, MA FIX | #* 18000 | 45000
* 18000-GNSS MEA
* DME/DME/IRU MEA
CANAL, MA FIX | U.S. CANADIAN BORDER | * 18000 | 45000
* GNSS REQUIRED

From | To | MEA
§ 95.6001 VICTOR Routes—U.S
§ 95.6005 VOR Federal Airway V5 Is Amended To Read In Part
CORCE, GA FIX | AWSON, GA FIX | * 5400
* 4600-MOCA
AWSON, GA FIX | * NELLO, GA FIX | * * 7000
* 7000-MCA | NELLO, GA FIX, E BND
* * 5500-MOCA
§ 95.6007 VOR Federal Airway V7 Is Amended To Delete
PETTY, WI FIX | PROOT, WI FIX | #
#UNUSABLE
PROOT, WI FIX | FALLS, WI VOR/DME | #
#UNUSABLE
FALLS, WI VOR/DME | GREEN BAY, WI VORTAC | 3000
§ 95.6011 VOR Federal Airway V11 Is Amended To Read In Part
CUNNINGHAM, KY VOR/DME | POCKET CITY, IN VORTAC | 2600
§ 95.6018 VOR Federal Airway V18 Is Amended To Delete
VULCAN, AL VORTAC | TRUST, AL FIX | 3500
TRUST, AL FIX | TALLADEGA, AL VOR/DME | 3700
TALLADEGA, AL VOR/DME | ATLANTA, GA VORTAC | 4000
ATLANTA, GA VORTAC | CONNI, GA FIX | * 3000
* 2500-MOCA
CONNI, GA FIX | MADDI, GA FIX | * 4000
* 2300-MOCA
MADDI, GA FIX | CORVI, GA FIX | * 5000
* 2000-MOCA
CORVI, GA FIX | RAFFE, GA WP | * 6000
* 2200-MOCA
RAFFE, GA WP | COLLIERS, SC VORTAC | * 2500
* 2000-MOCA
§ 95.6047 VOR Federal Airway V47 Is Amended To Read In Part
CUNNINGHAM, KY VOR/DME | POCKET CITY, IN VORTAC | 2600
§ 95.6049 VOR Federal Airway V49 Is Amended To Read In Part
VULCAN, AL VORTAC | FOLSO, AL FIX | 3100
FOLSO, AL FIX | MASHA, AL FIX
* 2400-MOCA | N BND | * 3000
| S BND | * 3100
MASHA, AL FIX | DECATUR, AL VOR/DME | * 3000
* 2300-MOCA
§ 95.6056 VOR Federal Airway V56 Is Amended To Delete
MERIDIAN, MS VORTAC | KEWANEE, MS VORTAC | 2000
KEWANEE, MS VORTAC | MONTGOMERY, AL VORTAC | * 5500
* 2300-MOCA
§ 95.6071 VOR Federal Airway V71 Is Amended To Delete
O'NEILL, NE VORTAC | WINNER, SD VOR | 4000
WINNER, SD VOR | PIERRE, SD VORTAC | 4100
§ 95.6097 VOR Federal Airway V97 Is Amended To Read In Part
BAPPY, GA FIX | * NELLO, GA FIX | 5000
* 10000-MCA | NELLO, GA FIX, N BND
NELLO, GA FIX | MELLS, GA FIX | * 10000
* 6300-GNSS MEA
§ 95.6159 VOR Federal Airway V159 Is Amended To Delete
VULCAN, AL VORTAC | HAMILTON, AL VORTAC | * 2600
* 2200-MOCA
HAMILTON, AL VORTAC | HOLLY SPRINGS, MS VORTAC | 2300
§ 95.6165 VOR Federal Airway V165 Is Amended To Delete
TULE, CA VOR/DME | DINUB, CA FIX | 3500
DINUB, CA FIX | SELMA, CA FIX
| NW BND | 2500
| SE BND | 3500
SELMA, CA FIX | * CLOVIS, CA VORTAC | 2000
* 4000-MCA CLOVIS, CA VORTAC, N BND
CLOVIS, CA VORTAC | * COGOL, CA FIX
| N BND | 6500
| S BND | 5000
* 8500-MCA COGOL, CA FIX, N BND
COGOL, CA FIX | MARRI, CA FIX | #* 16000
* 13600-MOCA
# MEA IS ESTABLISHED WITH A GAP IN NAVIGATION SIGNAL COVERAGE
Is Amended To Read In Part
TULE, CA VOR/DME | EXTRA, CA FIX | 3500
§ 95.6175 VOR Federal Airway V175 Is Amended To Read In Part
OYENS, IA FIX | WORTHINGTON, MN VOR/DME | * 6000
* 3600-GNSS MEA
§ 95.6198 VOR Federal Airway V198 Is Amended To Read In Part
SEMINOLE, FL VORTAC | GREENVILLE, FL VORTAC | #2100
#GREENVILLE R-270 UNUSABLE USE SEMINOLE R-088
§ 95.6209 VOR Federal Airway V209 Is Amended To Delete
SEMMES, AL VORTAC | JANES, AL WP | * 2300
* 1800-MOCA
* 2000-GNSS MEA
JANES, AL WP | KEWANEE, MS VORTAC | 2300
KEWANEE, MS VORTAC | BROOKWOOD, AL VORTAC | * 5000
* 2300-MOCA
Is Added To Read
SEMMES, AL VORTAC | YARBO, AL FIX | * 3000
* 1800-MOCA
* 2000-GNSS MEA
EUTAW, AL FIX | BROOKWOOD, AL VORTAC | * 5000
2300-MOCA
2500-GNSS MEA
§ 95.6222 VOR Federal Airway V222 Is Amended To Read In Part
EATON, MS VORTAC | PICAN, MS FIX
| W BND | 2300
| E BND | 3000
§ 95.6305 VOR Federal Airway V305 Is Amended To Read In Part
CUNNINGHAM, KY VOR/DME | POCKET CITY, IN VORTAC | 2600
§ 95.6311 VOR Federal Airway V311 Is Amended To Read In Part
DUBBS, TN FIX | MADOL, GA FIX | * 7000
* 6400-MOCA
MADOL, GA FIX | * NELLO, GA FIX | * * 8000
* 8000-MCA | NELLO, GA FIX, N BND
* 7000-MCA | NELLO, GA FIX, E BND
* * 6400-MOCA
NELLO, GA FIX | AWSON, GA FIX | * 7000
* 5500-MOCA
AWSON, GA FIX | CORCE, GA FIX | * 5400
* 4600-MOCA
§ 95.6389 VOR Federal Airway V389 Is Amended To Read In Part
CIMARRON, NM VORTAC | * FOGLE, NM FIX | * * 11600
* 15600-MCA | FOGLE, NM FIX, N BND
* * 10700-MOCA
§ 95.6413 VOR Federal Airway V413 Is Amended To Read In Part
GOPHER, MN VORTAC | BITLR, WI FIX | 3500
§ 95.6415 VOR Federal Airway V415 Is Amended To Read In Part
ROME, GA VORTAC | * NELLO, GA FIX | 5600
* 6000-MCA | NELLO, GA FIX, E BND
§ 95.6417 VOR Federal Airway V417 Is Amended To Read In Part
ROME, GA VORTAC | * NELLO, GA FIX | 5600
* 7000-MCA | NELLO, GA FIX, E BND
NELLO, GA FIX | AWSON, GA FIX | * 7000
* 5500-MOCA
AWSON, GA FIX | CORCE, GA FIX | * 5400
* 4600-MOCA
§ 95.6436 VOR Federal Airway V436 Is Amended To Read In Part
WILL ROGERS, OK VORTAC | JABDO, OK FIX | * 4500
* 3000-MOCA
JABDO, OK FIX | SAPPA, OK FIX | * 4000
* 2400-MOCA
§ 95.6510 VOR Federal Airway V510 Is Amended To Read In Part
GOPHER, MN VORTAC | * BITLR, WI FIX | 3500
* 5500-MCA | BITLR, WI FIX, SE BND
§ 95.6439 AlaskaVOR Federal Airway V439 Is Amended To Read In Part
KODIAK, AK VOR/DME | BAREL, AK FIX | * 6000
* 4300-MOCA
§ 95.6411 Hawaii VOR Federal Airway V11 Is Amended To Read In Part
UPOLU POINT, HI VORTAC | LNBRG, HI FIX | 5400
LNBRG, HI FIX | BARBY, HI FIX | 5500
BARBY, HI FIX | * SWEEP, HI FIX | 5400
* 5400-MCA | SWEEP, HI FIX, S BND |

Airway Segment: From | Airway Segment: To | Changeover Points: Distance | Changeover Points: From
§ 95.8003 VOR Federal Airway Changeover Point
V49 Is Amended To Modify Changeover Point
VULCAN, AL VORTAC | DECATUR, AL VOR/DME | 35 | VULCAN.
V165 Is Amended To Delete Changeover Point
CLOVIS, CA VORTAC | MUSTANG, NV VORTAC | 94 | CLOVIS.
V209 Is Amended To Delete Changeover Point
SEMMES, AL VORTAC | KEWANEE, MS VORTAC | 50 | SEMMES.

[FR Doc. 2020-09422 Filed 5-15-20; 8:45 am]

BILLING CODE 4910-13-P